DEPARTMENT OF ENERGY

Environmental Management Site-Specific Advisory Board, Idaho; Meeting

AGENCY: Department of Energy.

ACTION: Notice of open meeting.

SUMMARY: This notice announces a meeting of the Environmental Management Site-Specific Advisory Board (EM SSAB), Idaho. The Federal Advisory Committee Act (Pub. L. 92-463, 86 Stat. 770) requires that public notice of these meeting be announced in the Federal Register.

DATES:

Tuesday, January 23, 2001, 8:00 a.m.-6:00 p.m.

Wednesday, January 24, 2001, 8:00 a.m.-5:00 p.m.

Public participation sessions will be held on:

Tuesday, January 23, 2001, 12:15-12:30 p.m, 5:45-6:00 p.m.

Wednesday, January 24, 2001, 11:45-12:00 noon, 3:45-4:00 p.m.

These times are subject to change as the meeting progresses. Please check with the meeting facilitator to confirm these times.

ADDRESSES: Cavanaugh's, 1350 Blue Lakes Boulevard, Twin Falls, ID 83301, 208-734-5000.

FOR FURTHER INFORMATION CONTACT: Ms. Wendy Lowe, INEEL Cab Facilitator, Jason Associates Corporation, 477 Shoup Avenue, Suite 205, Idaho Falls, ID 83402, Phone (208) 522-1662 or visit the Board's Internet home page at http://www.ida.net/users/cab.

SUPPLEMENTARY INFORMATION: Purpose of the Board: The purpose of the Board is to make recommendations to DOE and its regulators in the areas of future use, cleanup levels, waste disposition and cleanup priorities at the INEEL.

Tentative Agenda: (Agenda topics may change up to the day of the meeting. Please contact Jason Associates for the most current agenda or visit the CAB's Internet site at http://www.ida.net/users/cab).

Presentations on the following:

• Spent nuclear fuel: What it is, where and how it is stored, and the schedule for transferring it to dry storage

• Draft Closure Plan for the New Waste Calcining Facility

• The Idaho Settlement Agreement, what it requires, and how DOE is doing in meeting its terms and conditions

• DOE-ID's budget request for Fiscal Year 2003

• The significance of being designated as a lead laboratory

• Licensing and permitting for facilities on the INEEL

• The Transuranic/Mixed Waste Focus Area and its efforts to identify alternatives to incineration

• How DOE sets shipping schedules for off-site shipments of radioactive materials

Briefings on the following:

• Final recommendations of the Blue Ribbon Panel on alternatives to incineration

• Final Nuclear Infrastructure Programmatic Environmental Impact Statement

Consideration of draft recommendations on:

• Draft Closure Plan for High-Level Waste Tanks 182 and 183

• Proposed Plan for Groundwater Remediation at the Test Area North

• Institutional Plan for Fiscal years 2001-2005

Discussion of the following:

• Activities related to the Site Specific Advisory Board Stewardship Workshop

• Possibly cosponsoring a Site Specific Advisory Board Seminar on alternatives to incineration for treatment of transuranic mixed waste

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585 between 9:00 a.m. and 4:00 p.m., Monday through Friday except Federal holidays. Minutes will also be available by writing to Ms. Wendy Lowe, INEEL CAB Facilitator, Jason Associates Corporation, 477 Shoup Avenue, Suite 205, Idaho Falls, ID 83402 or by calling (208) 522-1662.

Issued at Washington, DC on January 4, 2001.
Rachel Samuel,
Deputy Advisory Committee Management Officer.

[FR Doc. 01-585 Filed 1-8-01; 8:45 am]

BILLING CODE 6450-01-P